DEPARTMENT OF DEFENSE

Office of the Secretary

[Transmittal No. 25-04]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-04, Policy Justification, and Sensitivity of Technology.

Dated: January 8, 2026.
Stephanie J. Bost,
Alternate OSD Federal Register Liaison Officer, Department of Defense.

BILLING CODE 6001-FR-P

BILLING CODE 6001-FR-C

Transmittal No. 25-04

Notice of Proposed Issuance of Letter of Offer Pursuant to Section 36(b)(1) of the Arms Export Control Act, as amended

(i) Prospective Purchaser: Taipei Economic and Cultural Representative Office in the United States (TECRO)

(ii) Total Estimated Value:

Major Defense Equipment | $ 93 million
Other | $172 million
TOTAL | $265 million

Funding Source: Foreign Military Financing

(iii) Description and Quantity or Quantities of Articles or Services under Consideration for Purchase:

Major Defense Equipment (MDE):

Three hundred nine (309) Multifunctional Information Distribution System Joint Tactical Radio Systems (MIDS JTRS) Variant 5 (V5)

Non-Major Defense Equipment:

The following non-MDE items will also be included: non-recurring engineering; testing, certification, and other activities necessary to integrate MIDS JTRS V5 Block Upgrade Three on the recipient's Patriot, HE-2K, P-3, and F-16 Block 20 platforms; communications equipment and services needed to accelerate the modernization of the recipient's Advanced Tactical Datalink System; and other related elements of logistics and program support.

(iv) Military Department: Navy (TW-P-LII)

(v) Prior Related Cases, if any: TW-P-GQD

(vi) Sales Commission, Fee, etc., Paid, Offered, or Agreed to be Paid: None known at this time

(vii) Sensitivity of Technology Contained in the Defense Article or Defense Services Proposed to be Sold: See Attached Annex.

(viii) Date Report Delivered to Congress: December 20, 2024

* as defined in Section 47(6) of the Arms Export Control Act.

POLICY JUSTIFICATION

Taipei Economic and Cultural Representative Office in the United States (TECRO)—Command, Control, Communications, and Computers Modernization

The Taipei Economic and Cultural Representative Office in the United States (TECRO) has requested to buy three hundred nine (309) Multifunctional Information Distribution System Joint Tactical Radio Systems (MIDS JTRS) Variant 5 (V5). The following non-MDE items will also be included: non-recurring engineering; testing, certification, and other activities necessary to integrate the MIDS JTRS V5 Block Upgrade Three on the recipient's Patriot, HE-2K, P-3, and F-16 Block 20 platforms; communications equipment and services needed to accelerate the modernization of the recipient's Advanced Tactical Datalink System; and other related elements of logistics and program support. The estimated total cost is $265 million.

This proposed sale is consistent with United States (U.S.) law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's ability to meet current and future threats by enhancing communications and network security for its command, control, communications, and computers (C4) capabilities. The support will enhance the recipient's ability to command and control its forces by accelerating the delivery of infrastructure for the secure flow of tactical information. The recipient will have no difficulty absorbing this equipment and these services.

The proposed sale of this equipment and support will not alter the basic military balance in the region.

The principal contractor(s) will be selected through competitive procurements conducted by the U.S. Government in accordance with the Federal Acquisition Regulation. There are no known offset agreements proposed in connection with this potential sale.

Implementation of this proposed sale will require the assignment of five U.S. Government personnel and five contractor representatives to visit the recipient for a duration of up to four weeks to provide engineering and technical support services, as well as program and technical reviews.

There will be no adverse impact on U.S. defense readiness as a result of this proposed sale.

Transmittal No. 25-04

Notice of Proposed Issuance of Letter of Offer Pursuant to Section 36(b)(1) of the Arms Export Control Act

Annex

Item No. vii

(vii) Sensitivity of Technology:

1. The AN/USQ-190 Multifunctional Information Distribution System Joint Tactical Radio System (MIDS JTRS) is a secure, jam-resistant communication and positioning system that employs a defined waveform in the 960-1215-megahertz (MHz) Ultra High Frequency (UHF) range for packet message communication and 16 Kilobit digital voice and packet message communication. MIDS significantly increases force command and control (C2) effectiveness. The Tactical Digital Information Link-J (TADIL-J) series message standard is employed by the system as defined in North Atlantic Treaty Organization (NATO) Standardization Agreement (STANAG) 5516 and U.S. Military Standard (MIL-STD) 6016. The embedded hardware features provide communications security. MIDS JTRS builds on the earlier MIDS-Low Volume Terminal's (MIDS-LVT) capabilities with the addition of Concurrent Multi-Netting (CMN) and Concurrent Contention Receive (CCR) functions. CMN and CCR dramatically expand the number of platforms and network-enabled systems that can be reliably included in a Link 16 network. These enhancements allow a single MIDS JTRS terminal to simultaneously receive messages on up to four nets within a single Link 16 time slot, compared with on a single net in terminals without CMN and CCR, allowing a user to “hear” messages from up to three additional sources at once.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the recipient can provide substantially the same degree of protection for the sensitive technology being released as the U.S. Government. This proposed sale is necessary in furtherance of the U.S. foreign policy and national security objectives outlined in the Policy Justification.

5. All defense articles and services listed in this transmittal have been authorized for release and export to the recipient.

[FR Doc. 2026-00367 Filed 1-9-26; 8:45 am]

BILLING CODE 6001-FR-P